DEPARTMENT OF STATE

[Public Notice 5953]

Termination of Statutory Debarment Pursuant to Section 38(g)(4) of the Arms Export Control Act for Davilyn Corporation

ACTION: Notice.

SUMMARY: Notice is hereby given that the Department of State has terminated the statutory debarment against Davilyn Corporation pursuant to Section 38(g)(4) of the Arms Export Control Act (AECA) (22 U.S.C. 2778).

EFFECTIVE DATE: October 9, 2007.

FOR FURTHER INFORMATION CONTACT: David C. Trimble, Director, Office of Defense Trade Controls Compliance, Directorate of Defense Trade Controls, Bureau of Political-Military Affairs, Department of State (202) 663-2807.

SUPPLEMENTARY INFORMATION: Section 38(g)(4) of the AECA and Section 127.11 of the ITAR prohibit the issuance of export licenses or other approvals to a person, or any party to the export, who has been convicted of violating the AECA and certain other U.S. criminal statutes enumerated at section 38(g)(1)(A) of the AECA and Section 120.27 of the ITAR. A person convicted of violating the AECA is also subject to statutory debarment under Section 127.7 of the ITAR.

In June 2005, Davilyn Corporation was convicted of violating the AECA and the ITAR (U.S. District Court, District of California, CR 05-00432-RMT). Based on this conviction, Davilyn Corporation was statutorily debarred pursuant to Section 38(g)(4) of the AECA and Section 127.7 of the ITAR and, thus, prohibited from participating directly or indirectly in exports of defense articles and defense services. Notice of debarment was published in the Federal Register (70 FR 69260, November 16, 2005).

Section 38(g)(4) of the AECA permits termination of debarment after consultation with the other appropriate U.S. agencies and after a thorough review of the circumstances surrounding the conviction and a finding that appropriate steps have been taken to mitigate any law enforcement concerns. The Department of State has determined that Davilyn Corporation has taken appropriate steps to address the causes of the violations and to mitigate any law enforcement concerns. Therefore, in accordance with Section 38(g)(4) of the AECA, the debarment against Davilyn Corporation is rescinded, effective October 9, 2007.

Dated: September 10, 2007.
Stephen D. Mull,
Acting Assistant Secretary of State, Bureau of Political-Military Affairs, Department of State.

[FR Doc. E7-19807 Filed 10-5-07; 8:45 am]

BILLING CODE 4710-25-P